DEPARTMENT OF TRANSPORTATION

Federal Aviation Administration

14 CFR Part 121

[Docket No. FAA-2019-0360; Amdt. No. 121-392A]

RIN 2120-AL12

Removal of Check Pilot Medical Certificate Requirement; Correction

AGENCY: Federal Aviation Administration (FAA), U.S. Department of Transportation (DOT).

ACTION: Final rule; correction.

SUMMARY: On June 24, 2024, the Federal Aviation Administration (FAA) published the final rule entitled Removal of Check Pilot Medical Certificate Requirement. In that final rule, the FAA made two errors in the amendatory instructions. This correction corrects those errors.

DATES: This correction is effective July 18, 2024.

FOR FURTHER INFORMATION CONTACT: Joshua Jackson, Aviation Safety Inspector, Air Transportation Division, Flight Standards Service, Federal Aviation Administration, 800 Independence Avenue SW, Washington, DC 20591; telephone: 202-267-8166; email: joshua.jackson@faa.gov.

SUPPLEMENTARY INFORMATION:

As discussed in the notice of proposed rulemaking (NPRM),¹ the regulations establishing the requirements for flight instructors and check airmen in 14 CFR parts 121 and 135 are unclear regarding the medical certificate requirements when flight instructors or check airmen perform their duties in aircraft. The regulations indicate that flight instructors conducting flight training and check airmen administering checks in aircraft must hold a third-class medical certificate when not serving as a required flightcrew member. Elsewhere, however, the regulations also state that no medical certificate is required unless the flight instructor or check airman is serving as a required crewmember. Additionally, part 135 check pilots (aircraft) were held to different medical certification standards than part 121 check pilots and flight instructors and part 135 flight instructors.²

¹ Removal of Check Pilot Medical Certificate Requirement notice of proposed rulemaking, 84 FR 25499 (Jun. 3, 2019).

² Specifically, § 135.337(b)(5) states that a check airman (aircraft) must hold at least a third-class medical certificate unless serving as a required crewmember and the exception in § 135.337(e) that a check airman who does not hold the appropriate medical certificate may serve as a check airman, but not a required flightcrew member, applies only to check airmen (simulators). This differs from how the regulations treat part 121 check airmen and flight instructors and part 135 flight instructors.

On June 18, 2024, the FAA published a final rule in the Federal Register to resolve the discrepancy in the pertinent regulations by clarifying that flight instructors, check pilots, and check flight engineers must hold the appropriate medical certificate only when serving as required flightcrew members in an aircraft.³ The final rule also includes nonsubstantive nomenclature changes and reorganizes certain sections of parts 121 and 135.

³ Removal of Check Pilot Medical Certificate Requirement final rule, 89 FR 51415 (Jun. 18, 2024).

In publishing the final rule, the FAA made two inadvertent errors in the amendatory instructions of the regulatory text. This rule corrects those errors.

Correction

In FR Doc. 2024-12621 appearing on page 51415 in the Federal Register of Tuesday, June 18, 2024, the following corrections are made:

§ 121.419 [Corrected]

1. On page 51427, in the third column, in part 121, in amendment 16, the instruction “a. Revising paragraphs (c) and (f); and” is corrected to read “a. Revising paragraphs (c) introductory text and (f); and”.

Appendix F to Part 121 [Corrected]

2. On page 51429, in the first column, in part 121, in amendment 33, the instruction “b. Revising paragraph II.(c)(2) in the table;” is corrected to read “b. Revising paragraph II.(c) in the table;”.

Issued under the authority of 49 U.S.C. 106(f) in Washington, DC.
Brandon Roberts,
Executive Director, Office of Rulemaking.

[FR Doc. 2024-15256 Filed 7-15-24; 8:45 am]

BILLING CODE 4910-13-P